DEPARTMENT OF EDUCATION

Notice Establishing Deadlines for the Submission of Requests for Waivers That Would Directly Affect School-Level Activities

SUMMARY: In this notice, the Assistant Secretary for Elementary and Secondary Education establishes deadlines for the submission of waiver requests under section 14401 and 1113(a)(7) of the Elementary and Secondary Education Act of 1965 (ESEA), section 311(a) of the Goals 2000: Educate America Act, and section 502 of the School-to-Work Opportunities Act of 1994.

DATES: Deadlines: Except in extraordinary circumstances, the following deadlines apply to requests for waivers affecting school-level activities:

Requests for waivers that would be implemented in the semester immediately following January 1, 2001 must be submitted no later than October 30, 2000.

Requests for waivers that would be implemented in the beginning of the 2001-2002 school year must be submitted no later than April 1, 2001.

SUPPLEMENTARY INFORMATION: These deadlines apply only to waivers that would directly affect school-level activities. For example, the deadlines would apply to requests for waivers of the Title I targeting provisions or of the minimum poverty threshold required for implementation of a schoolwide program. However, the deadlines would not apply to waivers of requirements relating to the consolidation of administrative funds.

Waiver applicants are encouraged to submit their requests as early as possible and not wait until the deadlines to seek waivers. The requests will be reviewed upon receipt. For purposes of this notice, the submission date is the date that the waiver request is received by the U.S. Department of Education (Department) in substantially approvable form. A waiver request is considered to be in substantially approvable form when it has adequately addressed the applicable statutory criteria governing waivers.

During the period of a waiver request is under review by the Department, a waiver applicant must continue to comply with the requirement that is the subject of the waiver request.

Address for Submission of Requests: All requests for waivers should be submitted to the following address: Assistant Secretary for Elementary and Secondary Education, Attention: Waiver Staff, 400 Maryland Avenue, S.W., Washington, D.C. 20202.

FOR FURTHER INFORMATION CONTACT: Information on waivers may be obtained from the Department's Waiver Assistance Line at (202) 401-7801. Copies of the Department's updated waiver guidance, which provide a examples of waivers and describes how to apply for a waiver, are available at this number. The guidance, along with other information on flexibility, is also available at the Department's World Wide Web site at http://www.ed.gov/flexibility.

If you use a telecommunication device for the deaf (TDD), you may call the Federal Information Relay Service (FIRS) at 1-888-877-8339.

Individuals with disabilities may obtain this document in an alternative format, (e.g., Braille, large print, audiotape, or computer diskette) on request to William Wooten at (202) 260-1922.

Electronic Access to This Document

You may view this document, as well as all other Department of Education documents published in the Federal Register, in text or Adobe Portable Document Format (PDF) on the Internet at either of the following sites:

http://ocfo.ed.gov//fedreg.htm

http://www.ed.gov/news.html

To use PDF you must have Adobe Acrobat Reader, which is available free at either of the previous sites. If you have questions about using PDF, call the U.S. Government Printing Office (GPO), toll free, at 1-800-293-6498; or in the Washington, DC, area at (202) 512-1530.

Note: The official version of this document is the document published in the Federal Register. Free Internet access to the official edition of the Federal Register and the Code of Federal Regulations in available on GPO Access at: http://www.access.gpo.gov/nara/index.html.

Dated: September 28, 2000.
Michael Cohen,
Assistant Secretary for Elementary and Secondary Education.

[FR Doc. 00-25383 Filed 10-2-00; 8:45 am]

BILLING CODE 4000-01-M